DEPARTMENT OF THE INTERIOR

Bureau of Land Management

[UT-954-05-1910-BM-4677]

Montana: Filing of Plats of Amended Protraction Diagrams

AGENCY: Bureau of Land Management, Montana State Office, Interior.

ACTION: Notice of filing of plats of amended protraction diagrams.

SUMMARY: The Bureau of Land Management (BLM) will file the plats of the amended protraction diagrams of the lands described below in the BLM Montana State Office, Billings, Montana, (30) days from the date of publication in the Federal Register.

FOR FURTHER INFORMATION CONTACT: Steven G. Schey, Cadastral Surveyor, Branch of Cadastral Survey, Bureau of Land Management, 5001 Southgate Drive, P.O. Box 36800, Billings, Montana 59107-6800, telephone (406) 896-5132 or (406) 896-5009.

SUPPLEMENTARY INFORMATION: The amended protraction diagrams were prepared at the request of the U.S. Forest Service and are necessary to accommodate Revision of Primary Base Quadrangle Maps for the Geometronics Service Center.

The lands for the prepared amended protraction diagrams are:

Principal Meridian, Montana

Tps. 25, 26, 27, and 28 N., Rs. 30, 31, 32, 33, 34, and 35 W.

The plat, representing the Amended Protraction Diagram 39 Index of unsurveyed Townships 25, 26, 27, and 28 North, Ranges 30, 31, 32, 33, 34, and 35 West, Principal Meridian, Montana, was accepted June 17, 2005.

T. 25 N., R. 31 W.

The plat, representing Amended Protraction Diagram 39 of unsurveyed Township 25 North, Range 31 West, Principal Meridian, Montana, was accepted June 17, 2005.

T. 26 N., R. 30 W.

The plat, representing Amended Protraction Diagram 39 of unsurveyed Township 26 North, Range 30 West, Principal Meridian, Montana, was accepted June 17, 2005.

T. 26 N., R. 31 W.

The plat, representing Amended Protraction Diagram 39 of unsurveyed Township 26 North, Range 31 West, Principal Meridian, Montana, was accepted June 17, 2005.

T. 27 N., R. 30 W.

The plat, representing Amended Protraction Diagram 39 of unsurveyed Township 27 North, Range 30 West, Principal Meridian, Montana, was accepted June 17, 2005.

T. 27 N., R. 31 W.

The plat, representing Amended Protraction Diagram 39 of unsurveyed Township 27 North, Range 31 West, Principal Meridian, Montana, was accepted June 17, 2005.

T. 27 N., R. 32 W.

The plat, representing Amended Protraction Diagram 39 of unsurveyed Township 27 North, Range 32 West, Principal Meridian, Montana, was accepted June 17, 2005.

T. 27 N., R. 33 W.

The plat, representing Amended Protraction Diagram 39 of unsurveyed Township 27 North, Range 33 West, Principal Meridian, Montana, was accepted June 17, 2005.

T. 27 N., R. 34 W.

The plat, representing Amended Protraction Diagram 39 of unsurveyed Township 27 North, Range 34 West, Principal Meridian, Montana, was accepted June 17, 2005.

T. 27 N., R. 35 W.

The plat, representing Amended Protraction Diagram 39 of unsurveyed Township 27 North, Range 35 West, Principal Meridian, Montana, was accepted June 17, 2005.

T. 28 N., R. 30 W.

The plat, representing Amended Protraction Diagram 39 of unsurveyed Township 28 North, Range 30 West, Principal Meridian, Montana, was accepted June 17, 2005.

T. 28 N., R. 31 W.

The plat, representing Amended Protraction Diagram 39 of unsurveyed Township 28 North, Range 31 West, Principal Meridian, Montana, was accepted June 17, 2005.

T. 28 N., R. 32 W.

The plat, representing Amended Protraction Diagram 39 of unsurveyed Township 28 North, Range 32 West, Principal Meridian, Montana, was accepted June 17, 2005.

T. 28 N., R. 33 W.

The plat, representing Amended Protraction Diagram 39 of unsurveyed Township 28 North, Range 33 West, Principal Meridian, Montana, was accepted June 17, 2005.

T. 28 N., R. 34 W.

The plat, representing Amended Protraction Diagram 39 of unsurveyed Township 28 North, Range 34 West, Principal Meridian, Montana, was accepted June 17, 2005.

Tps. 33, 34, 35, 36, and 37 N., Rs. 30, 31, 32, 33, and 34 W.

The plat, representing the Amended Protraction Diagram 49 Index of unsurveyed Townships 33, 34, 35, 36, and 37 North, Ranges 30, 31, 32, 33, and 34 West, Principal Meridian, Montana, was accepted May 24, 2005.

T. 33 N., R. 30 W.

The plat, representing Amended Protraction Diagram 49 of unsurveyed Township 33 North, Range 30 West, Principal Meridian, Montana, was accepted May 24, 2005.

T. 33 N., R. 32 W.

The plat, representing Amended Protraction Diagram 49 of unsurveyed Township 33 North, Range 32 West, Principal Meridian, Montana, was accepted May 24, 2005.

T. 33 N., R. 33 W.

The plat, representing Amended Protraction Diagram 49 of unsurveyed Township 33 North, Range 33 West, Principal Meridian, Montana, was accepted May 24, 2005.

T. 34 N., R. 30 W.

The plat, representing Amended Protraction Diagram 49 of unsurveyed Township 34 North, Range 30 West, Principal Meridian, Montana, was accepted May 24, 2005.

T. 34 N., R. 31 W.

The plat, representing Amended Protraction Diagram 49 of unsurveyed Township 34 North, Range 31 West, Principal Meridian, Montana, was accepted May 24, 2005.

T. 34 N., R. 32 W.

The plat, representing Amended Protraction Diagram 49 of unsurveyed Township 34 North, Range 32 West, Principal Meridian, Montana, was accepted May 24, 2005.

T. 34 N., R. 33 W.

The plat, representing Amended Protraction Diagram 49 of unsurveyed Township 34 North, Range 33 West, Principal Meridian, Montana, was accepted May 24, 2005.

T. 34 N., R. 34 W.

The plat, representing Amended Protraction Diagram 49 of unsurveyed Township 34 North, Range 34 West, Principal Meridian, Montana, was accepted May 24, 2005.

T. 35 N., R. 30 W.

The plat, representing Amended Protraction Diagram 49 of unsurveyed Township 35 North, Range 30 West, Principal Meridian, Montana, was accepted May 24, 2005.

T. 35 N., R. 31 W.

The plat, representing Amended Protraction Diagram 49 of unsurveyed Township 35 North, Range 31 West, Principal Meridian, Montana, was accepted May 24, 2005.

T. 35 N., R. 32 W.

The plat, representing Amended Protraction Diagram 49 of unsurveyed Township 35 North, Range 32 West, Principal Meridian, Montana, was accepted May 24, 2005.

T. 35 N., R. 33 W.

The plat, representing Amended Protraction Diagram 49 of unsurveyed Township 35 North, Range 33 West, Principal Meridian, Montana, was accepted May 24, 2005.

T. 35 N., R. 34 W.

The plat, representing Amended Protraction Diagram 49 of unsurveyed Township 35 North, Range 34 West, Principal Meridian, Montana, was accepted May 24, 2005.

T. 36 N., R. 32 W.

The plat, representing Amended Protraction Diagram 49 of unsurveyed Township 36 North, Range 32 West, Principal Meridian, Montana, was accepted May 24, 2005.

T. 36 N., R. 33 W.

The plat, representing Amended Protraction Diagram 49 of unsurveyed Township 36 North, Range 33 West, Principal Meridian, Montana, was accepted May 24, 2005.

T. 36 N., R. 34 W.

The plat, representing Amended Protraction Diagram 49 of unsurveyed Township 36 North, Range 34 West, Principal Meridian, Montana, was accepted May 24, 2005.

T. 37 N., R. 32 W.

The plat, representing Amended Protraction Diagram 49 of unsurveyed Township 37 North, Range 32 West, Principal Meridian, Montana, was accepted May 24, 2005.

T. 37 N., R. 33 W.

The plat, representing Amended Protraction Diagram 49 of unsurveyed Township 37 North, Range 33 West, Principal Meridian, Montana, was accepted May 24, 2005.

T. 37 N., R. 34 W.

The plat, representing Amended Protraction Diagram 49 of unsurveyed Township 37 North, Range 34 West, Principal Meridian, Montana, was accepted May 24, 2005.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: July 14, 2005.
Thomas M. Deiling,
Chief Cadastral Surveyor, Division of Resources.

[FR Doc. 05-14487 Filed 7-21-05; 8:45 am]

BILLING CODE 4310-$$-P